DEPARTMENT OF THE INTERIOR

Bureau of Land Management

[OR090-02-5882-PH-EEDO; GP2-0148]

Notice of Meeting

AGENCY: Bureau of Land Management, Interior.

ACTION: Notice of meetings.

SUMMARY: The Eugene Resource Advisory Committee will hold two meetings in Eugene, Oregon. Agenda topics include review of last meeting minutes, presentations on proposed fiscal year 2003 Title II projects and discussion and recommendations for approval for funding of such projects. Meetings are being held under the authority of Public Law 106-393.

DATES: June 13, 2002 and July 25, 2002. The meetings will begin at 9 a.m. A public comment period will be held during each meeting at 11:30 am. The meetings are expected to adjourn by 4 pm.

ADDRESSES: The meetings will be held at the U. S. Bureau of Land Management Office, 2890 Chad Drive, Eugene, Oregon 97408.

FOR FURTHER INFORMATION CONTACT: Wayne Elliott, Eugene District Office, Eugene, Oregon, (541) 683-6989.

Dated: April 1, 2002.
Julia Dougan,
Eugene District Manager.

[FR Doc. 02-11089 Filed 5-3-02; 8:45 am]

BILLING CODE 4310-33-P